DEPARTMENT OF THE INTERIOR

Bureau of Land Management

[LLAK910000.L13100000.DB0000.LXSINSSI0000]

Notice of Public Meeting, North Slope Science Initiative—Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI)—Science Technical Advisory Panel (STAP) will meet as indicated below.

DATES: The meeting will be held June 12 and 13, 2014 in Fairbanks, Alaska. The meetings will begin at 9:00 a.m. in the Butrovich Building, Room 109a-b, 910 Yukon Drive, University of Alaska Fairbanks. Public comment will be received between 3:00 and 4:00 p.m. on Thursday, June 12, 2014.

FOR FURTHER INFORMATION CONTACT: John F. Payne, Executive Director, North Slope Science Initiative, AK-910, c/o Bureau of Land Management, 222 W. Seventh Avenue, #13, Anchorage, AK 99513; by phone at (907) 271-3431; or email jpayne@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The NSSI STAP provides advice and recommendations to the NSSI Oversight Group regarding priority information needs for management decisions across the North Slope of Alaska. These priority information needs may include recommendations on inventory, monitoring, and research activities that contribute to informed resource management decisions. This meeting will include continued dialog for prioritizing inventory, monitoring, and research using the North Slope Scenarios Project results for the North Slope and adjacent marine environments. Additionally, the STAP will continue dialog on a long-term monitoring strategy for the North Slope. The STAP will be reviewing the status of the emerging issues first released in October 2010.

All meetings are open to the public. The public may present written comments to the STAP through the Executive Director, North Slope Science Initiative. Each formal meeting will also have time allotted for hearing public comments. Depending on the number of persons wishing to comment and time available, the time for individual oral comments may be limited. Individuals who plan to attend and need special assistance, such as sign language interpretation, transportation, or other reasonable accommodations, should contact the Executive Director, North Slope Science Initiative. Before including your address, phone number, email address, or other personal identifying information in your comment, you should be aware that your entire comment, including your personal identifying information, may be made publicly available at any time. While you can ask us in your comment to withhold your personal identifying information from public review, we cannot guarantee that we will be able to do so.

Dated: May 12, 2014.
Bud C. Cribley,
State Director.

[FR Doc. 2014-11474 Filed 5-16-14; 8:45 am]

BILLING CODE 1310-JA-P